DEPARTMENT OF LABOR

Pension and Welfare Benefits Administration

Working Group on Long Term Care: Issues and Solutions; Advisory Council on Employee Welfare and Pension Benefits Plan; Notice of Meeting

Pursuant to the authority contained on section 512 of the Retirement Income Security Act of 1974 (ERISA), 29 U.S.C. 1142, a public meeting will be held on Monday, May 8 2000, of the Advisory Council on Employee Welfare and Pension Benefit Plans newly-established working group to study long Term Care: Issues and Solutions.

The purpose of the open meeting, which will run from 1 p.m. to approximately 4 p.m. in Room N-5437 A-D, U.S. Department of Labor Building, Second and Constitution Avenue NW., Washington, DC 20210, is for working group members to set their agenda for 2000 and to begin taking testimony on the topic. Named to chair the committee is Michael Stapley of Salt Lake City, Utah, President and CEO of Desert Mutual Benefit Association and vice chair is Patrick McTeague of Topsham, Maine, Partner, of McTeague, Higbee, MacAdam, Case, Watson and Cohen.

Members of the public are encouraged to file a written statement pertaining to the topic by submitting 20 copies on or before April 30, 1999, to Sharon Morrissey, Executive Secretary, ERISA Advisory Council, U.S. Department of Labor, Room N-5677, 200 Constitution Avenue, NW., Washington, DC 20210. Individuals or representatives of organization wishing to address the Working Group should forward their request to the Executive Secretary or telephone (202) 219-8753. Oral presentations will be limited to 10 minutes, but and extended statement may be submitted for the record. Individuals with disabilities, who need special accommodations, should contact Sharon Morrissey by April 30, at the address indicated in this notice.

Organizations or individuals also may submit statements for the record without testifying. Twenty (20) copies of such statement should be set to the Executive Secretary of the Advisory Council at the above address. Papers will be accepted and included in the record of the meeting if received on or before April 30.

Signed at Washington, DC this 7th day of April 200.
Leslie Kramerich,
Acting Assistant Secretary, Pension and Welfare Benefits Administration.

[FR Doc. 00-9341 Filed 4-13-00; 8:45 am]

BILLING CODE 4510-29-M